DEPARTMENT OF ENERGY

Federal Energy Regulatory Commission

Combined Notice of Filings #1

December 13, 2005.

Take notice that the Commission received the following electric rate filings.

Docket Numbers: ER00-2392-003; EL05-111-000.

Applicants: Fresno Cogeneration Partners, L.P.

Description: Fresno Cogeneration Partners, LP submits First Revised Sheet 2, correcting the language contained in section 2(b) of its Market Behavior Rules in compliance with FERC's May 31, 2005 Order.

Filed Date: December 5, 2005.

Accession Number: 20051212-0010.

Comment Date: 5 p.m. Eastern Time on Tuesday, December 27, 2005.

Docket Numbers: ER00-774-003.

Applicants: Nordic Marketing LLC.

Description: Nordic Marketing LLC submits a compliance filing amending the market based rate schedule to incorporate FERC's final market behavior rules.

Filed Date: December 5, 2005.

Accession Number: 20051212-0014.

Comment Date: 5 p.m. Eastern Time on Tuesday, December 27, 2005.

Docket Numbers: ER00-795-002.

Applicants: Nordic Electric, LLC.

Description: Nordic Electric, LLC submits a compliance filing amending the market based rate schedule to incorporate FERC's final market behavior rules.

Filed Date: December 5, 2005.

Accession Number: 20051212-0013.

Comment Date: 5 p.m. Eastern Time on Tuesday, December 27, 2005.

Docket Numbers: ER01-2221-002 -003; EL05-111-002.

Applicants: Energy Transfer—Hanover Ventures, LP.

Description: Request for rehearing of FERC's November 3, 2005 Order of Energy Transfer and a December 6, 2001 notice of cancellation of rate schedule.

Filed Date: December 5, 2005.

Accession Number: 20051208-0064.

Comment Date: 5 p.m. Eastern Time on Tuesday, December 27, 2005.

Docket Numbers: ER01-2224-002.

Applicants: Nordic Energy Barge No.1 and Barge No. 2, L.L.C.

Description: Nordic Energy Barge #1 and Barge #2 LLC submits a compliance filing amending the market based rate scheduled to its FERC's final market behavior rules.

Filed Date: December 5, 2005.

Accession Number: 20051212-0002.

Comment Date: 5 p.m. Eastern Time on Tuesday, December 27, 2005.

Docket Numbers: ER02-2550-002.

Applicants: Tenaska-Oxy Power Services, L.P.

Description: Tenaska-Oxy Power Services LP submits its Triennial Updated Market Analysis and its revised Rate Schedule FERC No. 1, Original Volume No.1.

Filed Date: November 8, 2005.

Accession Number: 20051110-0124.

Comment Date: 5 p.m. Eastern Time on Wednesday, December 21, 2005.

Docket Numbers: ER05-447-006.

Applicants: Midwest ISO Transmission Operators, Inc.

Description: Midwest ISO Transmission Owners Inc submits revisions to Schedule 23 to the Transmission and Energy Markets Tariff of the Midwest Independent Transmission System Operator Inc.

Filed Date: December 2, 2005.

Accession Number: 20051207-0064.

Comment Date: 5 p.m. Eastern Time on Friday, December 23, 2005.

Docket Numbers: ER05-1502-000.

Applicants: California Independent System Operator Corporation.

Description: Notice of CA Department of Water Resources State Water Project of Delayed Implementation of Certain Amendment 72 Reporting to the CAISO tariff.

Filed Date: December 2, 2005.

Accession Number: 20051202-5040.

Comment Date: 5 p.m. Eastern Time on Friday, December 23, 2005.

Docket Numbers: ER06-205-001.

Applicants: Alcoa Power Generating, Inc.

Description: Alcoa Power Generating Inc amends its November 14, 2005 filing to submit substitute sheets to the open access transmission tariff of its Long Sault Division and provide additional information requested by FERC Staff.

Filed Date: December 2, 2005.

Accession Number: 20051212-0001.

Comment Date: 5 p.m. Eastern Time on Friday, December 23, 2005.

Docket Numbers: ER06-275-000.

Applicants: Northeast Utilities Service Company.

Description: Northeast Utilities Service Co's letter of transmittal of transmission tariff revisions (Exhibits NU-1 and NU-2), Direct testimony of David H Boguslawski (Exh Nu-3) & direct testimony of John J Flynn (Exh NU-4) etc.

Filed Date: December 1, 2005.

Accession Number: 20051205-0125.

Comment Date: 5 p.m. Eastern Time on Thursday, December 22, 2005.

Docket Numbers: ER06-287-000.

Applicants: New Hampshire Electric Cooperative, Inc.

Description: New Hampshire Electric Cooperative Inc advises FERC that due to amendments of section 201(f) of the Federal Power Act, it is not longer a public utility.

Filed Date: December 5, 2005.

Accession Number: 20051207-0070.

Comment Date: 5 p.m. Eastern Time on Tuesday, December 27, 2005.

Docket Numbers: ER06-288-000.

Applicants: Northeast Utilities Service Company.

Description: Northeast Utilities Service Co, on behalf the Connecticut Light and Power Co et al submits a revised sheet to Schedule 21-NU to Section II of the ISO New England Tariff for Transmission, Markets and Services.

Filed Date: December 5, 2005.

Accession Number: 20051207-0071.

Comment Date: 5 p.m. Eastern Time on Tuesday, December 27, 2005.

Docket Numbers: ER06-289-000; ER04-1166-000.

Applicants: Twelvepole Creek, LLC.

Description: Twelvepole Creek LLC submits a notice cancelling its Rate Schedule No. 2.

Filed Date: December 5, 2005.

Accession Number: 20051207-0072.

Comment Date: 5 p.m. Eastern Time on Tuesday, December 27, 2005.

Docket Numbers: ER06-290-000.

Applicants: Wisconsin Electric Power Co.

Description: Wisconsin Electric Power Co submits its revised Exhibits Nos. 1 and 2 to the Control Area Operations Coordination Agreement with Wisconsin Power & Light Co.

Filed Date: December 5, 2005.

Accession Number: 20051207-0073.

Comment Date: 5 p.m. Eastern Time on Tuesday, December 27, 2005.

Docket Numbers: ER95-72-022; EL05-111-000.

Applicants: Power Exchange Corporation.

Description: Power Exchange Corp submits First Revised Sheet 2, correcting the language contained in section 2(b) of its Market Behavior Rules in compliance with FERC's May 31, 2005 Order.

Filed Date: December 5, 2005.

Accession Number: 20051212-0008.

Comment Date: 5 p.m. Eastern Time on Tuesday, December 27, 2005.

Docket Numbers: ER97-870-014.

Applicants: Sunoco Power Marketing, LLC.

Description: Sunoco Power Marketing, LLC submits a revised version of its market-based rate wholesale power sales tariff.

Filed Date: December 5, 2005.

Accession Number: 20051212-0011.

Comment Date: 5 p.m. Eastern Time on Tuesday, December 27, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7738 Filed 12-22-05; 8:45 am]

BILLING CODE 6717-01-P